DEPARTMENT OF VETERANS AFFAIRS

Veterans' Advisory Committee on Rehabilitation (VACOR); Notice of Meeting

The Department of Veterans Affairs (VA) gives notice under Public Law 92-463 (Federal Advisory Committee Act) that a meeting of the Veterans' Advisory Committee on Rehabilitation will be held on November 13-14, 2002, from 9 a.m. until 4:30 p.m. on both days at the Department of Veterans Affairs, 810 Vermont Avenue, NW., Washington, DC. On November 13, the meeting will be held in Room 730 and on November 14, the meeting will be held in Room 930. Both meeting sessions will be open to the public.

The purpose of the Committee is to provide advice to the Secretary of Veterans Affairs on the rehabilitation needs of disabled veterans and the administration of VA's rehabilitation programs.

On the morning of November 13th, the meeting will begin with presentation of Certificates of Appointments to newly appointed Committee members. Then, the Committee will receive an update regarding the current status of the Vocational Rehabilitation and Employment program. In the afternoon, the Committee will receive a briefing regarding Traumatic Brain Injury services available through the VA Physical Medicine and Rehabilitation program.

On the morning of November 14th, General Counsel will provide the Committee with a briefing on the Ethics Guidelines for Special Government Employees. Then, the Committee will receive a briefing regarding the Compensated Work Therapy, Incentive Therapy and Transitional Residence programs. In the afternoon, the Committee will receive a briefing concerning Blind Rehabilitation Services available though the Veterans Health Administration. The meeting will conclude with a discussion of future meeting dates, agenda items and recommendations.

Any member of the public wishing to attend the meeting should contact Ms. Alison O. Rosen, Department of Veterans Affairs, Veterans Benefits Administration (28), 810 Vermont Avenue, NW., Washington, DC 20420, at (202) 273-7208.

Dated: September 27, 2002.
By direction of the Secretary:
Nora E. Egan,
Committee Management Officer.

[FR Doc. 02-25496 Filed 10-07-02; 8:45 am]

BILLING CODE 8320-01-M